ENVIRONMENTAL PROTECTION AGENCY

[ER-FRL-6650-7]

Environmental Impact Statements; Notice of Availability

Responsible Agency: Office of Federal Activities, General Information (202) 564-7167 or http://www.epa.gov/compliance/nepa/.

Weekly receipt of Environmental Impact Statements

Filed April 19, 2004, through April 23, 2004

Pursuant to 40 CFR 1506.9.

EIS No. 040186, DRAFT EIS, BLM, ND, West Mine Area, Freedom Mine Project, Application to Acquire Federal Coal Lease, Mercer County, ND, Comment Period Ends: June 29, 2004, Contact: Lee Jefferis (701) 227-7713.

EIS No. 040187, REVISED DRAFT EIS, AFS, MT, Bridger Bowel Ski Area, Special Use Permit and Master Development Plan, Improve the Current Recreation Experience, Gallatin National Forest, Bozeman Ranger District, Gallatin County, MT, Comment Period Ends: June 14, 2004, Contact: Nancy Halstrom (406) 522-2520.

EIS No. 040188, DRAFT EIS, NPS, ID, Craters of the Moon National Monument and Preserve, Update and Consolidate Management Plans into One Comprehensive Plan, Snake River Plain, Blaine, Butte, Lincoln and Minidoka Counties, ID, Comment Period Ends: July 29, 2004, Contact: Adrienne Anderson (303) 987-6730. This document is available on the Internet at: http://www.id.blm.gov/planning/craters/index.htm.

EIS No. 040189, FINAL EIS, BLM, TX, NM, El Camino Real De Tierra Adentro National Historic Trail, Comprehensive Management Plan, Implementation, TX and NM, Wait Period Ends: June 4, 2004, Contact: Sarah Schlanger (505) 438-7454. This document is available on the Internet at: http://www.elcaminorcal.org.

EIS No. 040190, FINAL EIS, IBR, CA, Pajaro Valley Water Management Agency (PVWMA) Revised Basin Management Plan Project, Connection of PVWMA Pipeline to the Santa Clara Conduit of the Central Valley Project (CVP), Santa Cruz, Monterey and San Benito Counties, CA, Wait Period Ends: June 4, 2004, Contact: Lynne Silva (559) 487-5807. This document is available on the Internet at: http//www.pvwma.dst.ca.us/.

EIS No. 040191, DRAFT SUPPLEMENT, SFW, CA, Trinity River Mainstem Fishery Restoration Program, Updated Information, To Restore and Maintain the Natural Production of Anadromus Fish, Downstream of Lewiston Dam, Hoopa Valley Tribe, Weaverville, Trinity County, CA, Comment Period Ends: June 29, 2004, Contact: Russel Smith (530) 276-2045.

EIS No. 040192, DRAFT EIS, COE, FL, Programmatic EIS—Florida Keys Water Quality Improvements Program, To Implement Wastewater and Stormwater Improvements, South Florida Water Management District, Monroe County, FL, Comment Period Ends: June 14, 2004, Contact: Barbara Cintron (904) 232-1692. This document is available on the Internet at: http://www.evergladesplan.org.

EIS No. 040193, FINAL EIS, BOP, CA, Fresno Federal Correctional Facility Development, Funding, Orange Cove, Fresno County, CA, Wait Period Ends: June 4, 2004, Contact: Pamela J. Chandler (202) 514-6470.

EIS No. 040194, FINAL EIS, AFS, OR, North Fork Burnt River Mining Project, Proposal for Mineral Plans of Operation, Implementation, Wallowa-Whitman National Forest, Unity Ranger District, Whitman Unit, Blue Mountains, Town of Unity, Baker County, OR, Wait Period Ends: June 4, 2004, Contact: Wayne Frye (541) 523-1945.

EIS No. 040195, DRAFT SUPPLEMENT, NOA, Monkfish Fishery Management Plan (FMP) Amendment 2, Implementation, New England and Mid-Atlantic Coast, Comment Period Ends: July 28, 2004, Contact: Paul Howard (976) 465-0492. This document is available on the Internet at: http://www.nefmc.org.

EIS No. 040196, FINAL EIS, IBR, CA, Lower Santa Ynez River Fish Management Plan and Cachuma Project, Biological Opinion for Southern Steelhead Trout and Endangered Southern Steelhead Habitat Conditions Improvements, Santa Barbara County, CA, Wait Period Ends: June 4, 2004, Contact: David Young (559) 487-5127.

EIS No. 040197, DRAFT EIS, COE, NJ, NJ 92 Project, New Jersey Turnpike Authority, Transportation Improvement from East-West Highway Link Connecting U.S. Route 1 in South Brunswick Township with the New Jersey Turnpike at Interchange 8A in Monroe Township, Middlesex County, NJ, Comment Period Ends: June 14, 2004, Contact: Koko Cronin (212) 264-3813. This document is available on the Internet at: http://www.nan.usace.army.mil.

EIS No. 040198, DRAFT EIS, FTA, UT, Weber County to Salt Lake City Commuter Rail Project, Proposes a Commuter Rail Transit Service with Nine Stations between Salt Lake City and Peasant View, Weber Davis and Salt Lake Counties, UT, Comment Period Ends: June 14, 2004, Contact: Don Cover (303) 844-2174.

EIS No. 040199, FINAL EIS, NRS, ID, Little Wood River Irrigation District, Gravity Pressurized Delivery System Construction, Funding and U.S. Army COE Section 404 Permit, Townships of 1 North, 1 South and 2 South of Range 21 East of the Boise Merridan, City of Carey, Blaine County, ID, Wait Period Ends: June 4, 2004, Contact: Richard Sims (208) 378-5700.

EIS No. 040200, DRAFT EIS, EPA, RI, MA, Rhode Island Region Long-Term Dredged Material Disposal Site Evaluation Project, Designation of One or Comment Period Ends: June 14, 2004, Contact: Olga Guza (617) 918-1542.

EIS No. 040201, FINAL EIS, NIH, MT, Rocky Mountain Laboratories (RML) Integrated Research Facility, Construction and Operation to Improve the Nation's Ability to Study and Combat Emerging Infectious Disease and to Protect Public Health, Hamilton, Ravalli County, MT, Wait Period Ends: June 4,2004, Contact: Valerie Nottingham (301) 496-7775.

EIS No. 040202, FINAL EIS, AFS, OR, Baked Apple Fire Salvage Project, Salvaging Fire Killed Trees in the Matrix Portion of the 2002 Apple Fire, Umpqua National Forest, Umpqua Ranger District, Douglas County, OR, Wait Period Ends: June 4, 2004, Contact: Debbie Anderson (541) 957-3466. This document is available on the Internet at: http://www.fs.fed.us/r6/umpqua/.

Amended Notices

EIS No. 040167, DRAFT SUPPLEMENT, BLM, CA, U.S. Army National Training Center, Proposed Addition of Maneuver Training Land at Fort Irwin, Implementation, San Bernardino County, CA, Comment Period Ends: June 1, 2004, Contact: Ray Marler (760) 380-3035. Revision of Federal Register Notice Published on 4/16/2004: Correction to Comment Period from 07/16/2004 to 06/01/2004.

EIS No. 040179, DRAFT EIS, FAA, IN, Gary/Chicago International Airport Master Plan Development Including Runway Safety Area Enhancement/Extension of Runway 12-30, Funding, Lake County, IN, Comment Period Ends: June 11, 2004, Contact: Prescott C. Snyder (847) 294-9538. Revision of Federal Register Notice Published on 4/23/2004: Correction to Comment Period from 06/07/2004 to 06/11/2004.

Dated: April 27, 2004.
Ken Mittelholtz,
Environmental Protection Specialist, Office of Federal Activities.

[FR Doc. 04-9876 Filed 4-29-04; 8:45 am]

BILLING CODE 6560-60-P